DEPARTMENT OF THE INTERIOR

National Park Service

Notice of Inventory Completion: Oregon State University Department of Anthropology, Corvallis, OR

AGENCY: National Park Service, Interior.

ACTION: Notice.

Notice is here given in accordance with the Native American Graves Protection and Repatriation Act (NAGPRA), 25 U.S.C. 3003, of the completion of an inventory of human remains in the control of Oregon State University Department of Anthropology, Corvallis, OR. The human remains were removed from an unknown location in Western Kentucky.

This notice is published as part of the National Park Service;s administrative responsibilities under NAGPRA, 25 U.S.C. 3003(d)(3). The determinations in this notice are the sole responsibility of the museum, institution, or Federal agency that has control of the Native American human remains. The National Park Service is not responsible for the determinations in this notice.

A detailed assessment of the human remains was made by Oregon State University Department of Anthropology professional staff in consultation with representatives of the Absentee-Shawnee Tribe of Indians of Oklahoma; Delaware Nation, Oklahoma; and Shawnee Tribe, Oklahoma.

On an unknown date, human remains representing a minimum of one individual were removed from an unknown site in Western Kentucky, by George Karl Neumann, a physical anthropologist working out of Indiana State University, Terre Haute, IN. In 1976, the Oregon State University Department of Anthropology acquired the Neumann Collection from Indiana State University. The human remains are identified in the collection records as a “Western Kentucky, Shawnee.” No known individual was identified. No associated funerary objects are present.

The Absentee-Shawnee Tribe of Indians of Oklahoma, Eastern Shawnee Tribe of Oklahoma, and Shawnee Tribe, Oklahoma traditionally occupied Western Kentucky. Consultation with the Delaware Nation supports the cultural affiliation of this individual with the Shawnee culture group.

Officials of the Oregon State University Department of Anthropology have determined that, pursuant to 25 U.S.C. 3001(9-10), the human remains described above represent the physical remains of one individual of Native American ancestry. Officials of the Oregon State University Department of Anthropology have determined that, pursuant to 25 U.S.C. 3001(2), there is a relationship of shared group identity that can be reasonably traced between the Native American human remains and the Absentee-Shawnee Tribe of Indians of Oklahoma, Eastern Shawnee Tribe of Oklahoma, and Shawnee Tribe, Oklahoma.

Representatives of any other Indian tribe that believes itself to be culturally affiliated with the human remains should contact Dr. David McMurray, Oregon State University Department of Anthropology, 238 Waldo Hall, Corvallis, OR 97331, telephone (541) 737-4515, before May 19, 2008. Repatriation of the human remains to the Absentee-Shawnee Tribe of Indians of Oklahoma, Eastern Shawnee Tribe of Oklahoma, and Shawnee Tribe, Oklahoma may proceed after that date if no additional claimants come forward.

Oregon State University Department of Anthropology is responsible for notifying the Absentee-Shawnee Tribe of Indians of Oklahoma; Delaware Nation, Oklahoma; Eastern Band of Cherokee Indians of North Carolina; Eastern Shawnee Tribe of Oklahoma; Miami Tribe of Oklahoma; Peoria Tribe of Indians of Oklahoma; and Shawnee Tribe, Oklahoma that this notice has been published.

Dated: March 18, 2008.
Sherry Hutt,
Manager, National NAGPRA Program.

[FR Doc. E8-8313 Filed 4-16-08; 8:45 am]

BILLING CODE 4312-50-S